DEPARTMENT OF THE TREASURY

Submission for OMB Review; Comment Request

September 30, 2014.

The Department of the Treasury will submit the following information collection request to the Office of Management and Budget (OMB) for review and clearance in accordance with the Paperwork Reduction Act of 1995, Public Law 104-13, on or after the date of publication of this notice.

DATES: Comments should be received on or before November 3, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission(s) may be obtained by emailing PRA@treasury.gov, calling (202) 622-1295, or viewing the entire information collection request at www.reginfo.gov.

Office of Foreign Assets Control

OMB Number: 1505-0198.

Type of Review: Extension of a currently approved collection.

Title: Requirement to Report Information About the Shipment of Rough Diamonds.

Abstract: This information collection is contained in 31 CFR 592.301 and 592.502. The regulations set forth reporting requirements for persons who import rough diamonds into the United States or export rough diamonds from the U.S.

Affected Public: Businesses or other for-profits.

Estimated Annual Burden Hours: 1,750.

Brenda Simms,
Treasury PRA Clearance Officer.

[FR Doc. 2014-23583 Filed 10-2-14; 8:45 am]

BILLING CODE 4810-25-P